DEPARTMENT OF COMMERCE

International Trade Administration

[C-570-942]

Certain Kitchen Appliance Shelving and Racks from the People's Republic of China: Countervailing Duty Administrative Review, 2010; Correction

AGENCY: Import Administration, International Trade Administration, Department of Commerce.

SUMMARY: On October 9, 2012, the Department of Commerce (Department) published in the Federal Register a notice of preliminary results and partial rescission of administrative review concerning the countervailing duty order on certain kitchen appliance shelving and racks from the People's Republic of China. See Certain Kitchen Appliance Shelving and Racks From the People's Republic of China: Countervailing Duty Administrative Review; 2010, 77 FR 61396 (October 9, 2012) (Preliminary Results). The Preliminary Results inadvertently omitted the assessment instructions that pertain to the rescission of review for six producers/exporters.

DATES: Effective Date: December 5, 2012.

FOR FURTHER INFORMATION CONTACT: Jennifer Meek or Mary Kolberg, Office of AD/CVD Operations, Office 1, Import Administration, International Trade Administration, U.S. Department of Commerce, 14th Street and Constitution Avenue NW., Washington, DC 20230; telephone: (202) 482-2778 and (202) 482-1785, respectively.

Background

In the Preliminary Results, the Department partially rescinded this administrative review with respect to the following companies: Asia Pacific CIS (Wuxi) Co., Ltd.; Guangdong Wireking Co., Ltd. (formerly known as Foshun Shunde Wireking Housewares & Hardware); Hangzhou Dunli Import & Export Co., Ltd. and Hangzhou Dunli Industry Co., Ltd.; Hengtong Hardware Manufacturing (Huizhou) Co., Ltd.; Jiangsu Weixi Group Co.; and Leader Metal Industry Co., Ltd. (aka Marmon Retail Services Asia).

Assessment

The Department will instruct U.S. Customs and Border Protection (CBP) to assess countervailing duties on all appropriate entries. For the companies for which this review is rescinded, countervailing duties shall be assessed at rates equal to the cash deposit of estimated countervailing duties required at the time of entry, or withdrawal from warehouse, for consumption, during the period January 1, 2010, through December 31, 2010, in accordance with 19 CFR 351.212(c)(1)(i).

The Department intends to issue appropriate assessment instructions directly to CBP 15 days after publication of this notice.

Dated: November 28, 2012
Ronald K. Lorentzen,
Acting Assistant Secretary for Import Administration.

[FR Doc. 2012-29427 Filed 12-4-12; 8:45 am]

BILLING CODE 3510-DS-P